FEDERAL RESERVE SYSTEM

Sunshine Act Meeting

AGENCY HOLDING THE MEETING: Board of Governors of the Federal Reserve System

FEDERAL REGISTER CITATION OF PREVIOUS ANNOUNCEMENT: 65 FR 77880, December 13, 2000.

PREVIOUSLY ANNOUNCED TIME AND DATE OF THE MEETING: 12 noon, Monday, December 18, 2000.

Changes in the Meeting: One of the items announced for inclusion at this meeting was consideration of any agenda items carried forward from a previous meeting; the following such closed item(s) was added: Future capital framework. (This item was originally announced for a closed meeting on November 20, 2000.)

CONTACT PERSON FOR MORE INFORMATION: Lynn S. Fox, Assistant to the Board; 202-452-3204.

SUPPLEMENTARY INFORMATION: You may call 202-452-3206 for a recorded announcement of this meeting; or you may contact the Board's Web site at http://www.federalreserve.gov for an electronic announcement. (The Web site also includes procedural and other information about the open meeting.)

Dated: December 15, 2000.
Robert deV. Frierson,
Associate Secretary of the Board.

[FR Doc. 00-32431 Filed 12-15-00; 3:29 pm]

BILLING CODE 6210-01-P